DEPARTMENT OF COMMERCE

National Oceanic and Atmospheric Administration

RIN 0648-XG174

Western Pacific Fishery Management Council; Public Meeting

AGENCY: National Marine Fisheries Service (NMFS), National Oceanic and Atmospheric Administration (NOAA), Commerce.

ACTION: Notice of public meetings.

SUMMARY: The Western Pacific Fishery Management Council (Council) will convene a meeting of its Plan Team for the Fishery Ecosystem Plan for Pelagics Fisheries of the Western Pacific Region (PPT) in Honolulu, HI to discuss fishery issues and develop recommendations for future management.

DATES: The meeting of the PPT will be held on May 14-16 2018, from 8:30 a.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION:

The PPT will meet at the Council Conference Room to discuss the following agenda items:

Monday, May 14, 2018, 8:30 a.m.

1. Introduction

2. Review 2017 Annual Stock assessment and fishery evaluation (SAFE) Report Modules

A. Fishery Data Modules

i. American Samoa

ii. Northern Marianas Islands

iii. Guam

iv. Hawaii

v. International

vi. Recreational Fisheries

B. Ecosystem Chapter

i. Environmental & climate variables

ii. Habitat section

iii. Marine planning section

iv. Human dimension section

v. Protected Species

C. Data Integration Chapter and Workshop

D. 2017 Annual Report Region Wide Improvements

3. Public Comment

Tuesday, May 15, 2018 and Wednesday, May 16, 2018, 8:30 a.m.

4. Pelagics Fishery Ecosystem Plan Council Actions for 2018

A. American Samoa Large Vessel Prohibited Area

B. Amendment 7 Framework Modification

C. Hawaii Shallow-set Longline Fishery Turtle Management Framework

5. Seabird Interactions in the Hawaii Longline Fishery

A. Albatross Workshop Report

B. Proposed Changes to Seabird Mitigation Measures from NMFS PIRO Observer Program

6. Protected Species Handling Requirements and Guidelines

7. Other Business

8. Public Comment

9. Pelagic Plan Team Recommendations

The order in which the agenda items are addressed may change. The PPT will meet as late as necessary to complete scheduled business. The meeting will end when the agenda has been completed.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 19, 2018.
Tracey L. Thompson,
Acting Deputy Director, Office of Sustainable Fisheries, National Marine Fisheries Service.

[FR Doc. 2018-08495 Filed 4-23-18; 8:45 am]

BILLING CODE 3510-22-P